DEPARTMENT OF THE INTERIOR

National Park Service

[NPS-WASO-NRNHL-DTS#-35101; PPWOCRADI0, PCU00RP14.R50000]

National Register of Historic Places; Notification of Pending Nominations and Related Actions

AGENCY: National Park Service, Interior.

ACTION: Notice.

SUMMARY: The National Park Service is soliciting electronic comments on the significance of properties nominated before December 31, 2022, for listing or related actions in the National Register of Historic Places.

DATES: Comments should be submitted electronically by January 30, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before December 31, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

KEY: State, County, Property Name, Multiple Name (if applicable), Address/Boundary, City, Vicinity, Reference Number.

CONNECTICUT

New London County

Griswold Point Historic District, 5-26-1 Griswold Point, 6-19 Old Shore, and 3-33-1 Osprey Rd., Old Lyme, SG100008625

NEW YORK

Onondaga County

Syracuse Bread Company Factory, (Industrial Resources in the City of Syracuse, Onondaga County, NY MPS), 200 Maple St., Syracuse, MP100008620

Buildings at 500 and 506 Erie Boulevard East, 500 and 506 Erie Blvd. East, Syracuse, SG100008621

SOUTH DAKOTA

Brookings County

Volga Hospital, 203 Samara Ave., Volga, SG100008617

Custer County

Galena Creek Schoolhouse, (Schools in South Dakota MPS), 25151 Badger Clark Rd., Custer vicinity, MP100008618

Lawrence County

Homestake Mining Company Hydroelectric Plant No. 2, US 14A, Spearfish vicinity, SG100008619

Authority: Section 60.13 of 36 CFR part 60

Dated: January 5, 2023.
Sherry A. Frear,
Chief, National Register of Historic Places/National Historic Landmarks Program.

[FR Doc. 2023-00608 Filed 1-12-23; 8:45 am]

BILLING CODE 4312-52-P